NATIONAL AERONAUTICS AND SPACE ADMINISTRATION

[Notice: (11-090)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration announces a meeting of the Human Exploration and Operations Committee of the NASA Advisory Council.

DATES: Tuesday, November 1, 2011, 8 a.m.-5 p.m.; Local Time.

ADDRESSES: National Aeronautics and Space Administration, Headquarters, 300 E Street, SW., Room 9H40, Washington, DC 20546-0001.

FOR FURTHER INFORMATION CONTACT: Dr. Bette Siegel, Human Exploration and Operations Mission Directorate, National Aeronautics and Space Administration Headquarters, 300 E Street, SW., Washington, DC 20546, 202-358-2245; bette.siegel@nasa.gov.

SUPPLEMENTARY INFORMATION: The agenda topics for the meeting will include:

• Re-Organization Status

• Space Launch System/Multi-Purpose Crew Vehicle Status

• Overall Human Exploration and Operations (HEO) Mission Directorate Status

• Status of Commercial Orbital Transportation Services and Commercial Crew Development

• Global Exploration Roadmap

• Space Life and Physical Science Research and Applications

The meeting will be open to the public up to the seating capacity of the room. This meeting is also available telephonically and by WebEx. You must use a touch tone phone to participate in this meeting. Any interested person may dial access number, 1-888-997-8502 or 1-630-395-0408 and then enter the numeric participant passcode: 7614788 followed by the # sign. To join via WebEx the link is https://nasa.webex.com/, meeting number 991 810 548, and password 1101*Tues. It is imperative that the meeting be held on this date to accommodate the scheduling priorities of the key participants. Attendees will be required to comply with NASA security procedures, including the presentation of a valid picture ID. U.S. citizens will need to show valid, officially-issued picture identification such as a driver's license to enter into the building and must state they are attending the NASA Advisory Council Human Exploration and Operations Committee session in Room 9H40. Permanent Resident Aliens will need to show residency status (valid green card) and a valid, officially issued picture identification such as a driver's license and must state they are attending the Human Exploration and Operations Committee session in Room 9H40. All non-U.S. citizens must submit, no less than 10 working days prior to the meeting, their name, current address, citizenship, company affiliation (if applicable) to include address, telephone number, and their title, place of birth, date of birth, U.S. visa information to include type, number and expiration date, U.S. Social Security Number (if applicable) to Dr. Bette Siegel, Executive Secretary, Human Exploration and Operations Committee, Human Exploration and Operations Mission Directorate, NASA Headquarters, Washington, DC 20546. For questions, please contact Dr. Siegel at bette.siegel@nasa.gov or by telephone at (202) 358-2245.

Dated: October 5, 2011.
P. Diane Rausch,
Advisory Committee Management Officer, National Aeronautics and Space Administration.

[FR Doc. 2011-26391 Filed 10-12-11; 8:45 am]

BILLING CODE 7510-13-P